DEPARTMENT OF AGRICULTURE

Agricultural Marketing Service

[Doc. No. AMS-LP-23-0027]

Soybean Promotion, Research, and Information Program: Results of Soybean Request for Referendum

AGENCY: Agricultural Marketing Service, USDA.

ACTION: Notice.

SUMMARY: The results of the Agricultural Marketing Service's (AMS) Request for Referendum indicate that too few soybean producers wanted a referendum on the Soybean Promotion and Research Order (Order) for one to be conducted. The Request for Referendum was conducted from May 6, 2024, through May 31, 2024, at the U.S. Department of Agriculture's (USDA) Farm Service Agency County offices. To trigger a referendum, 41,336 soybean producers, which represents 10 percent of the total nationwide soybean producers, needed to complete a valid Request for Referendum. The total number of soybean producers participating in the referendum was 229. The number of valid petitions received was 207.

FOR FURTHER INFORMATION CONTACT: Jason Julian, Research and Promotion Division, Livestock and Poultry Program, AMS, USDA, Room 2092-S, STOP 0249, 1400 Independence Avenue SW, Washington, DC 20250-0249; Telephone: (202) 731-2149; or Email: Jason.Julian@usda.gov.

SUPPLEMENTARY INFORMATION: Pursuant to the Soybean Promotion, Research, and Consumer Information Act (Act) (7 U.S.C. 6301 et seq.), every 5 years the Secretary of Agriculture (Secretary) gives soybean producers the opportunity to request a referendum on the Order. If the Secretary determines that at least 10 percent of U.S. producers engaged in growing soybeans (not in excess of one-fifth of which may be producers in any one State) support the conduct of a referendum, the Secretary must conduct a referendum within one year of that determination. If these requirements are not met, a referendum is not conducted.

A notice of opportunity to Request a Soybean Referendum was published in the Federal Register (89 FR 7353) on February 2, 2024. To be eligible to participate in the Request for Referendum, producers or the producer entity that they are authorized to represent must provide supporting documentation showing that they or the producer entity they represent paid an assessment sometime during the representative period between January 1, 2022, and December 31, 2023. Based on data from USDA's Farm Service Agency, there are 413,358 soybean producers in the United States.

A total of 229 producers participated in the Request for Referendum. Only 207 valid requests for a referendum were completed by eligible soybean producers. This number does not meet the requisite number of 41,336. Therefore, based on the results, a referendum will not be conducted. In accordance with the provisions of the Act, soybean producers will be provided another opportunity to request a referendum in 5 years.

The following are the State-by-State results of the Request for Referendum:

State | Valid ballots
Alabama | 0
Alaska | 0
Arizona | 0
Arkansas | 0
California | 0
Colorado | 0
Connecticut | 0
Delaware | 0
Florida | 0
Georgia | 0
Hawaii | 0
Idaho | 0
Illinois | 35
Indiana | 33
Iowa | 46
Kansas | 2
Kentucky | 7
Louisiana | 0
Maine | 0
Maryland | 4
Massachusetts | 0
Michigan | 1
Minnesota | 27
Mississippi | 0
Missouri | 12
Montana | 0
Nebraska | 4
Nevada | 0
New Hampshire | 0
New Jersey | 0
New Mexico | 0
New York | 0
North Carolina | 0
North Dakota | 2
Ohio | 14
Oklahoma | 0
Oregon | 0
Pennsylvania | 2
Rhode Island | 0
South Carolina | 0
South Dakota | 12
Tennessee | 0
Texas | 1
Utah | 0
Vermont | 0
Virginia | 0
Washington | 0
West Virginia | 0
Wisconsin | 5
Wyoming | 0

Authority: 7 U.S.C. 6301-6311.

Melissa Bailey,
Associate Administrator, Agricultural Marketing Service.

[FR Doc. 2024-22453 Filed 9-30-24; 8:45 am]

BILLING CODE 3410-02-P